DEPARTMENT OF TRANSPORTATION

Surface Transportation Board

[STB Finance Docket No. 34411]

New Orleans & Gulf Coast Railway Company, Inc.—Lease Exemption—Union Pacific Railroad Company

New Orleans & Gulf Coast Railway Company, Inc. (NOGC), a Class III rail carrier, has filed a verified notice of exemption under 49 CFR 1150.41 to lease from Union Pacific Railroad Company (UP) and operate approximately 11.52 miles of rail line. The line consists of 7.02-miles of UP's main line located between milepost 0.98 at Goldsboro, LA, and milepost 8.00 near Westwego, LA, and the 4.5-mile spur line known as the Hooper Spur located between Harvey Yard, at Harvey, LA, and the end of the spur at Bayou Street. NOGC certifies that its projected revenues as a result of this transaction will not result in NOGC becoming a Class II or Class I rail carrier, and further certifies that its projected annual revenues will not exceed $5 million.

NOGC indicates that it expects to consummate the transaction on or shortly after October 19, 2003.

If the notice contains false or misleading information, the exemption is void ab initio. Petitions to revoke the exemption under 49 U.S.C. 10502(d) may be filed at any time. The filing of a petition to revoke will not automatically stay the transaction.

An original and 10 copies of all pleadings, referring to STB Finance Docket No. 34411, must be filed with the Surface Transportation Board, 1925 K Street, NW., Washington, DC 20423-0001. In addition, one copy of each pleading must be served on Karl Morell, Of Counsel, Ball Janik LLP, Suite 225, 1455 F St., NW., Washington, DC 20005.

Board decisions and notices are available on our website at WWW.STB.DOT.GOV.

Decided: October 10, 2003.
By the Board, David M. Konschnik, Director, Office of Proceedings.
Vernon A. Williams,
Secretary.

[FR Doc. 03-26281 Filed 10-17-03; 8:45 am]

BILLING CODE 4915-00-P